DEPARTMENT OF DEFENSE

GENERAL SERVICES ADMINISTRATION

NATIONAL AERONAUTICS AND SPACE ADMINISTRATION

[OMB Control No. 9000-0066; Docket No. 2024-0053; Sequence No. 7]

Submission for OMB Review; Certain Federal Acquisition Regulation Part 22 Labor Requirements

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision of a previously approved information collection requirement regarding certain Federal Acquisition Regulation (FAR) part 22 labor requirements.

DATES: Submit comments on or before April 29, 2024.

ADDRESSES: Written comments and recommendations for this information collection should be sent within 30 days of publication of this notice to www.reginfo.gov/public/do/PRAMain. Find this particular information collection by selecting “Currently under Review—Open for Public Comments” or by using the search function.

FOR FURTHER INFORMATION CONTACT: Ms. Dana Bowman, Procurement Analyst, at 202-803-3188 or at dana.bowman@gsa.gov.

SUPPLEMENTARY INFORMATION:

A. OMB Control Number, Title, and Any Associated Form(s)

9000-0066, Certain Federal Acquisition Regulation Part 22 Labor Requirements.

B. Needs and Uses

The revision to the information collection is needed for the implementation of Executive Order (E.O.) 14063, Use of Project Labor Agreements for Federal Construction Projects, issued February 4, 2022 (87 FR 7363, February 9, 2022). E.O. 14063 mandates that Federal Government agencies require the use of project labor agreements (PLAs) for large-scale Federal construction projects, where the total estimated cost to the Government is $35 million or more, unless an exception applies. Agencies still have the discretion to require PLAs for Federal construction projects that do not meet the $35 million threshold.

This clearance covers the information that offerors and contractors must submit to comply with the following FAR part 22 requirements:

• FAR 52.222-2, Payment for Overtime Premiums. This clause requires the contractor to request authorization for overtime premiums costs that exceed the amount negotiated in the contract. The request shall include information on the affected work unit current staffing and workload, how a denial of the request would impact performance on the instant contract or other contracts, and reasons why the work cannot be performed by using multishift operations or by employing additional personnel. Contracting officers use this information to evaluate whether the overtime is necessary.

• FAR 52.222-6, Construction Wage Rate Requirements, and the Standard Form (SF) 1444. This clause requires the contractor to establish additional classifications, if any laborer or mechanic is to be employed in a classification that is not listed in the wage determination applicable to the contract. In such cases, the contractor is required to complete and submit a SF 1444, Request for Authorization of Additional Classification and Rate, along with other pertinent data, containing the proposed additional classification and minimum wage rate including any fringe benefits payments. The contracting officer submits the SF 1444 to the Department of Labor (DOL) Wage and Hour Division with a request for conformance review to determine the appropriateness of the request.

• FAR 52.222-11, Subcontracts (Labor Standards), and the SF 1413. This clause requires a contractor to submit an SF 1413, Statement and Acknowledgment, for each subcontract for construction within the United States, including the subcontractor's signed and dated acknowledgment that the required labor clauses necessary to implement various labor statutes have been included in the subcontract. Contracting officers review the information on the form to ascertain whether contractors have included the required labor clauses in their subcontracts.

• FAR 52.222-18, Certification Regarding Knowledge of Child Labor for Listed End Products. This provision (and its commercial equivalent in the provision at 52.212-3) requires the offeror, as part of its annual representations and certifications, to either certify in paragraph (c)(1) that it will not supply an end product of a type identified on the DOL List of Products Requiring Contractor Certification as to Forced or Indentured Child Labor (https://www.dol.gov/agencies/ilab), or certify in paragraph (c)(2) that it has made a good faith effort to determine whether such child labor was used to mine, produce, or manufacture such end product, and is unaware of any such use of child labor. This information is used by the Government to ensure that a good faith effort has been made to determine whether forced or indentured child labor was used to mine, produce, or manufacture any product on the List furnished under the contract.

• FAR 52.222-33, Notice of Requirement for Project Labor Agreement. When a PLA (a pre-hire collective bargaining agreement described in 29 U.S.C. 158(f)) is required for a large-scale construction project within the United States for which the total estimated cost of the construction contract to the Federal Government is $35 million or more, this provision requires the offeror to submit a copy of a PLA at the time offers are due, prior to award, or after contract award as determined by the agency. Subcontractors are required to become a party to the resulting PLA. An agency may require the use of a PLA on projects where the total cost to the Federal Government is less than $35 million, if appropriate.

• FAR 52.222-34, Project Labor Agreement. When a PLA is required for a large-scale construction project within the United States for which the total estimated cost of the construction contract to the Federal Government is $35 million or more, this clause requires the contractor to maintain the PLA in a current state throughout the life of the contract. The requirement for a PLA flows down to all subcontracts with subcontractors engaged in construction on the construction project.

• FAR 52.222-46, Evaluation of Compensation for Professional Employees. This provision requires offerors to submit for evaluation a total compensation plan setting forth proposed salaries and fringe benefits for professional employees working on the contract. The Government will use this information to determine if professional employees are compensated fairly and properly. Plans indicating unrealistically low professional employees' compensation may be assessed adversely as one of the factors considered in making a contract award.

C. Annual Burden

Respondents/Recordkeepers: 544,162.

Total Annual Responses: 619,558.

Total Burden Hours: 107,495 (107,174 reporting hours + 321 recordkeeping hours).

D. Public Comment

A 60-day notice was published in the Federal Register at 87 FR 51044 on August 19, 2022, as part of a proposed rule under FAR Case 2022-003, Use of Project Labor Agreements for Federal Construction Projects. Due to the public comments received in response to the proposed rule regarding the burden calculations, the estimated number of hours necessary for the implementation of a PLA were increased from a range of 40-80 to a range of 100-200 hours. Only the burden for the FAR provision at 52.222-33, and the FAR clause at 52.222-34 is affected by this revision. All other FAR part 22 provisions and clauses covered by OMB Control #9000-0066 remain the same as previously approved.

Obtaining Copies: Requesters may obtain a copy of the information collection documents from the GSA Regulatory Secretariat Division, by calling 202-501-4755 or emailing GSARegSec@gsa.gov. Please cite OMB Control No. 9000-0066, Certain Federal Acquisition Regulation Part 22 Labor Requirements.

Janet Fry,
Director, Federal Acquisition Policy Division, Office of Governmentwide Acquisition Policy, Office of Acquisition Policy, Office of Governmentwide Policy.

[FR Doc. 2024-06700 Filed 3-28-24; 8:45 am]

BILLING CODE 6820-EP-P